EXPORT-IMPORT BANK

Sub-Saharan Africa Advisory Committee; Requests for Nominations

The Export-Import Bank of the United States (EXIM) is accepting nominations for the EXIM Sub-Saharan Africa Advisory Committee from July 6, 2020 to July 31, 2020.

The Congressionally-established Sub-Saharan Africa Advisory Committee meets at least twice annually to provide guidance and advice regarding EXIM policies and programs designed to support the expansion of financing support for U.S. manufactured goods and services in Sub-Saharan Africa.

Candidates wishing to be considered for membership to the Sub-Saharan Africa Advisory Committee must submit a questionnaire, resume, and letter of support demonstrating why they would be asset to the committee. Letters may be written by candidates themselves or by supportive individuals, and should be submitted on official company or organization letterhead.

Full application requirements and materials will be available beginning July 6, 2020 at: https://www.exim.gov/about/leadership/sub-saharan-africa-advisory-committee.

All nominations are due by 5:30 p.m. EDT, July 31, 2020.

For additional information please contact the Office of External Engagement at external@exim.gov.

Joyce B. Stone,
Assistant Corporate Secretary.

[FR Doc. 2020-14473 Filed 7-6-20; 8:45 am]

BILLING CODE 6690-01-P